DEPARTMENT OF THE INTERIOR

National Park Service

Concession Contracts

AGENCY: National Park Service, Interior.

ACTION: Public notice.

SUMMARY: Pursuant to 36 CFR 51.23, public notice is hereby give that the National Park Service proposes to extend the following expiring concession contracts for a period of up to 1 year, or until such time as a new contract is executed, whichever occurs sooner.

SUPPLEMENTARY INFORMATION: The listed concession authorizations will expire by their terms on or before December 31, 2003. The National Park Service has determined that the proposed short-term extensions are necessary in order to avoid interruption of visitor services and has taken all reasonable and appropriate steps to consider alternatives to avoid such interruption. These extensions will allow the National Park Service to complete and issue a prospectus leading to the competitive selection of a concessioner for a new long-term concession contract covering these operations.

Conc ID No. | Concessioner name | Park
BRCA002 | Bryce Zion Trail Rides | Bryce Canyon National Park.
CANY001-020 | Canyonlands River Runners | Canyonlands National Park.
GRCA002 | North Rim, Xanterra Parks and Resorts | Grand Canyon National Park.
GRTE001 | Grand Teton Lodge Company | Grand Teton National Park.
WHSA001 | White Sands Company, Inc | White Sands National Monument.

EFFECTIVE DATE: January 2, 2004.

FOR FURTHER INFORMATION CONTACT: Cynthia Orlando, Concession Program Manager, National Park Service, Washington, DC 20240, Telephone 202/513-7156.

Dated: December 9, 2003.
Richard G. Ring,
Associate Director, Administration, Business Practices and Workforce Development.

[FR Doc. 03-31940 Filed 12-29-03; 8:45 am]

BILLING CODE 4312-53-M